DEPARTMENT OF COMMERCE

Foreign-Trade Zones Board

[Docket 17-2005]

Foreign-Trade Zone 17—Kansas City, MO; Application for Export Manufacturing Authority; Cereal Ingredients, Inc. (Food Flavoring Particulates and Mixes); Leavenworth, KS

An application has been submitted to the Foreign-Trade Zones Board (the Board) by the Greater Kansas City Foreign Trade Zone, Inc., grantee of FTZ 17, pursuant to § 400.32(b)(1) of the Board's regulations (15 CFR part 400), on behalf of Cereal Ingredients, Inc. (CII), for authority to manufacture food flavoring particulates and mixes for export under FTZ procedures within FTZ 17. The application was submitted pursuant to the provisions of the Foreign-Trade Zones Act, as amended (19 U.S.C. 81a-81u), and the regulations of the Board (15 CFR part 400). It was formally filed on April 26, 2005.

The proposed activity would occur at CII's manufacturing facility located at 4720 South 13th Street within the Leavenworth Area Business Center (Site 5) in Leavenworth, Kansas. The facility (32 employees/8 acres/40,000 sq. ft., plus 40,000 sq. ft. expansion area) is used to produce flavoring particulates and swirl mixes (HTSUS 1901.90) for food products, dairy products and baked goods. The food particulates add flavor, texture and color to baked goods, breakfast cereals, ice cream, and nutritional foods. The activity conducted under FTZ procedures would involve manufacturing of food particulates and swirl mixes using domestic and foreign ingredients for export only. Ingredients purchased from abroad would include: Cane sugar, beet sugar, cocoa, cinnamon soy protein concentrate and isolate, milk protein concentrate and isolate, and textured protein concentrate. None of the foreign-origin sugar and dairy products which are subject to U.S. import quotas would be entered for domestic consumption, and all such products would be re-exported from the zone.

FTZ procedures would exempt CII from quota requirements and Customs duty payments on the foreign ingredients used in the proposed export FTZ production. Duties would be deferred or reduced on foreign production equipment admitted to FTZ 17 until which time it becomes operational. The application indicates that FTZ manufacturing authority for export production would help improve the facility's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-4100W, 1099 14th Street, NW., Washington, DC 20005; or,

2. Submissions via the U.S. Postal Service: Foreign-Trade Zones Board, U.S. Department of Commerce, FCB-4100W, 1401 Constitution Ave., NW., Washington, DC 20230.

The closing period for their receipt is July 5, 2005. Rebuttal comments in response to material submitted during the foregoing period may be submitted during the subsequent 15-day period (to July 19, 2005).

A copy of the application will be available for public inspection at the Office of the Foreign-Trade Zones Board's Executive Secretary at address No. 1 above.

Dated: April 26, 2005.
Dennis Puccinelli,
Executive Secretary.

[FR Doc. 05-8991 Filed 5-4-05; 8:45 am]

BILLING CODE 3510-DS-M